DEPARTMENT OF TRANSPORTATION

Federal Motor Carrier Safety Administration

Sunshine Act Meetings; Unified Carrier Registration Plan Board of Directors

AGENCY: Federal Motor Carrier Safety Administration (FMCSA), DOT.

ACTION: Notice of Unified Carrier Registration Plan Board of Directors Meeting.

TIME AND DATE: One meeting will be held on September 7, 2016 from 2:00 p.m. until 5:00 p.m. Eastern Daylight Time. Another meeting will be held on September 8, 2016 from 9:00 a.m. until 11:00 a.m. Eastern Daylight Time.

PLACE: The meetings will be open to the public at the Residence Inn Washington, DC Downtown, 1199 Vermont Avenue NW., Washington, DC 20005, and via conference call. Those not attending the meetings in person may call 1-877-422-1931, passcode 2855443940, to listen and participate in the meetings.

STATUS: Open to the public.

MATTERS TO BE CONSIDERED: The Unified Carrier Registration Plan Board of Directors (the Board) will continue its work in developing and implementing the Unified Carrier Registration Plan and Agreement and to that end, may consider matters properly before the Board.

FOR FURTHER INFORMATION CONTACT: Mr. Avelino Gutierrez, Chair, Unified Carrier Registration Board of Directors at (505) 827-4565.

Issued on: August 18, 2016.
Larry W. Minor,
Associate Administrator for Policy.

[FR Doc. 2016-20492 Filed 8-23-16; 11:15 am]

BILLING CODE 4910-EX-P